ENVIRONMENTAL PROTECTION AGENCY

[FRL-8790-7]

Farm, Ranch, and Rural Communities Committee

AGENCY: Environmental Protection Agency (EPA).

ACTION: Notice of meeting.

SUMMARY: Under the Federal Advisory Committee Act, Public Law 92-463, EPA gives notice of a meeting of the Farm, Ranch, and Rural Communities Committee (FRRCC). The purpose of the FRRCC is to provide advice to the Administrator of EPA on environmental issues and programs that impact, or are of concern to, farms, ranches, and rural communities. The FRRCC is a part of EPA's efforts to expand cooperative working relationships with the agriculture industry and others who are interested in agricultural issues to achieve greater progress in environmental protection.

The purpose of this teleconference is to discuss and approve the draft FRRCC Land Use advice letter to the EPA. A copy of the meeting agenda will be posted at http://www.epa.gov/ocem/frrcc.

DATES: FRRCC will hold a public teleconference on Tuesday, May 19, 2009, from 2 p.m.-4 p.m. Eastern Standard Time.

ADDRESSES: The meeting will be held in the U.S. EPA East Building, 1201 Constitution Ave., NW., Room 1132, Washington, DC 20004.

FOR FURTHER INFORMATION CONTACT: Alicia Kaiser, Designated Federal Officer, kaiser.alicia@epa.gov, 202-564-7273, U.S. EPA, Office of the Administrator (1101A), 1200 Pennsylvania Avenue, NW., Washington, DC 20460, or Christopher Ashcraft, Junior Designated Federal Officer, ashcraft.christopher@epa.gov, 202-564-2432, U.S. EPA, Office of the Administrator (1601M), 1200 Pennsylvania Avenue, NW., Washington, DC 20460.

SUPPLEMENTARY INFORMATION: Requests to make oral comments or to provide written comments to the FRRCC should be sent to Alicia Kaiser, Designated Federal Officer, at the contact information above by Tuesday, May 12, 2009. The public is welcome to attend all portions of the meeting, but seating is limited and is allocated on a first-come, first-serve basis. Members of the public wishing to gain access to the teleconference must contact Alicia Kaiser at (202) 564-7273 or kaiser.alicia@epa.gov by May 12, 2009.

Meeting Access: For information on access or services for individuals with disabilities, please contact Alicia Kaiser at 202-564-7273 or kaiser.alicia@epa.gov. To request accommodation of a disability, please contact Alicia Kaiser, preferably at least 10 days prior to the meeting, to give EPA as much time as possible to process your request.

Dated: March 26, 2009.
Alicia Kaiser,
Designated Federal Officer.

[FR Doc. E9-8114 Filed 4-8-09; 8:45 am]

BILLING CODE 6560-50-P